DEPARTMENT OF ENERGY

Federal Energy Regulatory Commission

[Docket Nos. EL18-4-000]

Notice of Petition for Partial Waiver; Indiana Municipal Power Agency, Indiana Utility Regulatory Commission

Take notice that on October 3, 2017, pursuant to section 292.402 of the Federal Energy Regulatory Commission's (Commission) Rules and Regulations,¹ Indiana Municipal Power Agency (IMPA) on behalf of itself and its authorizing member municipal cities (Authorizing Members) that are nonregulated electric utilities, and the Indiana Utility Regulatory Commission (Indiana Commission) on behalf of those Authorizing Members subject to Indiana Commission rate regulation, filed a joint request for a partial waiver of certain obligations imposed on IMPA and its Authorizing Members through the Commission's regulations ² implementing section 210 of the Public Utility Regulatory Policies Act of 1978, as amended,³ as more fully explained in the petition.

¹ 18 CFR 292.402.

² 18 CFR 292.303(a), .303(b).

³ 16 U.S.C. 824a-3.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the eLibrary link and is available for review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comments: 5:00 p.m. Eastern Time on October 24, 2017.

Dated: October 3, 2017.
Nathaniel J. Davis, Sr.,
Deputy Secretary.

[FR Doc. 2017-21728 Filed 10-6-17; 8:45 am]

BILLING CODE 6717-01-P